MILLENNIUM CHALLENGE CORPORATION

[MCC FR 07-03]

Notice of Quarterly Report (October 1, 2006-December 31, 2006)

AGENCY: Millennium Challenge Corporation.

SUMMARY: The Millennium Challenge Corporation (MCC) is reporting for the quarter October 1, 2006 through December 31, 2006 with respect to both assistance provided under section 605 of the Millennium Challenge Act of 2003 (Pub. L. 108-199, Division D (the Act)), and transfers of funds to other federal agencies pursuant to section 619 of that Act. The following report shall be made available to the public by means of publication in the Federal Register and on the Internet Web site of the MCC (http://www.mcc.gov) in accordance with section 612(b) of the Act.

Assistance Provided Under Section 605
Projects | Obligated | Objectives | Quarterly disbursements | Measures
Country: Madagascar Year: 2007
Entity To Which The Assistance Is Provided: MCA Madagascar Total Quarterly Disbursement: $4,823,000
Land Tenure Project | $37,803,000 | Increase Land Titling and Security | $0 | Legislative proposal (“loin de cadrage”) reflecting the PNF submitted to Parliament and passed Percentage of land documents inventoried, restored, and/or digitized.
|  |  |  | Average time and cost required to carry out property-related transactions at the local and/or national land services offices. Time/cost to respond to information request, issue titles and to modify titles after the first land right.
|  |  |  | Number of land disputes reported and resolved in the target zones and sites of implementation.
|  |  |  | Percentage of land in the zones that is demarcated and ready for titling.
|  |  |  | Promote knowledge and awareness of land tenure reforms among inhabitants in the zones (surveys).
Finance Project | $35,888,000 | Increase Competition in the Financial Sector | $0 | Submission to Parliament and passage of new laws recommended by outside experts and relevant commissions. CPA Association (CSC) list of accountants registered.
|  |  |  | Maximum check clearing delay.
|  |  |  | Volume of funds in payment system and number of transactions.
|  |  |  | Public awareness of new financial instruments (surveys).
|  |  |  | Report of credit and payment information to a central database.
|  |  |  | Number of holders of new denomination T-bill holdings, and T-bill issuance outside Antananarivo as measured by Central Bank report of redemption date.
|  |  |  | Volume of production covered by warehouse receipts in the zones.
|  |  |  | Volume of MFI lending in the zones.
|  |  |  | MFI portfolio-at-risk delinquency rate.
|  |  |  | Number of new bank accounts in the zones.
Agricultural Business Investment Project | $17,683,000 | Improve Agricultural Projection Technologies and Market Capacity in Rural Areas | $0 | Number of rural producers receiving or soliciting information from ABCs about the opportunities. Zones identified and description of beneficiaries within each zone submitted.
|  |  |  | Number of cost-effective investment strategies developed.
|  |  |  | Number of plans prepared.
|  |  |  | Number of farmers and business employing technical assistance received.
Program Administration* and Control, Monitoring and Evaluation | $18,399,000 |  | $0 |
To be allocated** | $0 |  | $4,823,000 |
Country: Honduras Year: 2007 Quarter 1 | Total Obligation: $215,000,000
Entity To Which the Assistance Is Provided: MCA Honduras Total Quarterly Disbursement: $1,297,000
Rural Development Project | $72,195,000 | Increase the productivity and business skills of farmers who operate small and medium-size farms and their employees | $0 | Hours of technical assistance delivered to Program Farmers (thousands) Funds lent by MCA-Honduras to financial institutions (cumulative).
|  |  |  | Hours of technical assistance to financial institutions (cumulative).
|  |  |  | Lien Registry equipment installed.
|  |  |  | Kilometers of farm-to-market road upgraded (cumulative).
Transportation Project | $125,700,000 | Reduce transportation costs between targeted production centers and national, regional and global markets | $0 | Kilometers of highway upgraded. Kilometers of secondary road upgraded.
|  |  |  | Number of weight stations built.
Program Administration* and Control, Monitoring and Evaluation | $17,105,000 |  | $0 |
To be allocated** | $0 |  | $1,297,000 |
Country: Cape Verde Year: 2007 | Entity To Which the Assistance Is Provided: MCA Cape Verde Total Quarterly Disbursement: $0
Watershed and Agricultural Support | $10,848,000 | Increase agricultural production in three targeted watershed areas on three islands | $0 | Productivity: Horticulture (tons per hectare). Value-added for farms and agribusiness (millions of dollars).
Infrastructure Improvement | $78,760,000 | Increase integration of the internal market and reduce transportation costs | $0 | Volume of goods shipped between Praia and other islands (tons). Mobility Ratio: Percentage of beneficiary population who take at least 5 trips per month.
|  |  |  | Savings on transport costs from improvements (million dollars).
Private Sector Development | $7,200,000 | Spur private sector development on all islands through increased investment in the priority sectors and through financial sector reform | $0 | Value added in priority sectors above current trends (escudos). Volume of private investment in priority sectors above current trends.
Program Administration* and Control, Monitoring and Evaluation | $13,270,000 |  | $0 |
Country: Nicaragua Year: 2007 Quarter 1
Total Obligation: $174,925,000
Entity To Which the Assistance Is Provided: MCA Nicaragua Total Quarterly Disbursement: $1,316,000
Property Regularization Project | $26,400,000 | Increase Investment by strengthening property rights | $0 | Automated registry-cadastre database installed Number of parcels with a registered title, rural and urban (total of 21,000 and 22,000, rural and urban, respectively).
|  |  |  | Projected areas demarcated.
|  |  |  | Number of projected area management plans implemented.
|  |  |  | Number of conflicts resolved by program mediation.
Transportation Project | $92,800,000 | Reduce transportation costs between Leon and Chinandega and national, regional and global markets | $0 | N-1 Road: Kilometers of road upgraded. Secondary Roads: Kilometers of secondary road upgraded.
Rural Business Development Project | $33,500,000 | Increase the value added of farms and enterprises in the region | $0 | Rural business development centers: Value of TA and support services delivered to program businesses. Improvement of water supply for farming and forest production: Watershed Management Action Plan.
|  |  |  | Funds disbursed for improvement of water supply for farming and forest production projects.
Program Administration*, Due Diligence, Monitoring and Evaluation | $22,225,000 |  | $0 |
To be allocated** | $0 |  | $1,316,000 |
Country: Georgia Year: 2007 Quarter 1
Total Obligation: $294,693,000
Entity To Which the Assistance Is Provided: MCA Georgia Total Quarterly Disbursement: $11,768,000
Regional Infrastructure Rehabilitation | $211,700,000 | Key Regional Infrastructure Rehabilitated | $0 | Reduction in journey time: Akhalkalaki-Ninotsminda-Teleti (hours).
|  |  |  | Reduction in vehicle operating costs (cumulative).
|  |  |  | Increase in internal regional traffic volumes (cumulative).
|  |  |  | Decreased technical losses.
|  |  |  | Reduction in the production of greenhouse gas emissions measured in tons of CO2 equivalent.
|  |  |  | Increased in collection rate of GGIC.
|  |  |  | Number of household beneficiaries served by RID projects (cumulative).
|  |  |  | Actual operations and maintenance expenditures (USD).
Regional Enterprise Development | $47,500,000 | Enterprises in Regions Developed | $0 | Increase in annual revenue in portfolio companies (in (1,000 USD).
|  |  |  | Increase in number of portfolio company employees and number of local suppliers.
|  |  |  | Increase in portfolio companies' wages and payments to local suppliers (in 1,000 USD).
|  |  |  | Jobs created.
|  |  |  | Increase in aggregate incremental net revenue to project assisted firms (in 1,000 USD and cumulative over five years).
|  |  |  | Direct household net income (in 1,000 USD cumulative over five years).
|  |  |  | Direct household net income for market information initiative beneficiaries (in 1,000 USD cumulative over five years).
|  |  |  | Number of beneficiaries.
Program Administration*, Due Diligence, Monitoring and Evaluation | 35,493,000 |  | $0 |
To be allocated** | $0 |  | $11,768,000 |
Country: Vanuatu Year: 2007 Quarter 1
Total Obligation: $65,690,000
Entity To Which the Assistance Is Provided: MCA Vanuatu Total Quarterly Disbursement:
Transportation Infrastructure Project | $60,690,000 | Facilitate transportation to increase tourism and business development | $0 | Traffic volume (average annual daily traffic). Days road is closed (number per annum).
|  |  |  | Number of S-W Bay, Malekula flights cancelled due to flooding (per annum).
|  |  |  | Time of wharf (hours/vessel).
Program Administration*, Due Diligence, Monitoring and Evaluation | $5,000,000 |  | $0 |
Country: Armenia Year: 2007 Quarter 1
Total Obligation: $235,150,000
Entity To Which the Assistance Is Provided: MCA Armenia Total Quarterly Disbursement: $882,000
Irrigated Agriculture Project | $145,680,000 | Increase agricultural productivity and improve quality of irrigation | $0 | Increase in hectares covered by HVA crops (i.e., vegetables, potato, fruits, grapes). Percentage of respondents satisfied with irrigation services.
|  |  |  | Share of WUA water charges compared WUA annual operations and maintenance cost (percentage).
|  |  |  | Number of farmers using better on-farm water management: drip irrigation; ET Gage, and soil moisture monitoring.
|  |  |  | Loans provided under the project (USD in thousands).
Rural Road Rehabilitation Project | $67,100,000 | Better access to economic and social infrastructure | $0 | Annual increase in irrigated land in Project area (hectares). State budget expenditures on maintenance of irrigation system (AMD in millions).
|  |  |  | Reduction in kilowatt hours used (thousand KWh).
|  |  |  | Share of water losses compared to total water intake (percentage).
|  |  |  | Share of WUA water charges compared to WUA annual operations and maintenance cost (percentage).
Program Administration*, Due Diligence, Monitoring and Evaluation | $22,370,000 |  | $0
To be allocated** | $0 |  | $882,000 |
Country: Benin Year: 2007 Quarter 1
Total Obligation: $305,761,000
Entity To Which the Assistance Is Provided: MCA Benin Total Quarterly Disbursement: $2,097,000
Access to Financial Services | $19,650,000 | Expand Access to Financial Services | $0 | Strengthen capacity of select financial institutions. Strengthen monitoring capacity of Supervisory Authority.
|  |  |  | Total incremental increase in value of new credit extended and savings received by financial institutions participating in the project.
|  |  |  | Share value of all loans outstanding that have one or more installments of principal past due over 30 days.
|  |  |  | Total number of loans guaranteed by land titles, per year.
Access to Justice | $34,270,000 | Improved Ability of Justice System to Enforce Contracts and Reconcile Claims | $0 | Increase efficiency and improved services of courts and the arbitration center. Increase access to court system.
|  |  |  | Improve enterprise registration center.
Access to Land | $36,020,000 | Strengthen property rights and increase investment in rural and urban land | $0 | Value of investments made to rural land parcels per year; land investment data will come from self-reported data through EMICoV. Value of investments made to urban land parcels per year; land investment data will come from self-reported data through EMICoV.
Access to Markets | $168,020,000 | Improve Access to Markets through Improvements to the Port of Cotonou | $0 | Total volume of exports and imports passing through Port of Cotonou, per year in million metric tons.
Program Administration*, Due Diligence, Monitoring and Evaluation | $22,370,000 |  | $0 |
To be allocated** | $0 |  | $2,097,000 |

619 Transfer Funds: U.S. Agency to which funds were transferred | 619 Transfer Funds: Amount | 619 Transfer Funds: Country | 619 Transfer Funds: Description of program or project
USAID | $149,670,094 |  | Threshold Program.
*Program administration funds are used to pay items such as salaries, rent, and the cost of office equipment.
**These amounts represent disbursements made that will be allocated to individual projects in the subsequent quarter(s) and reported as such in subsequent quarterly report(s).

Dated: February 7, 2007.
Frances C. McNaught,
Vice President, Congressional & Public Affairs, Millennium Challenge Corporation.

[FR Doc. E7-2447 Filed 2-12-07; 8:45 am]

BILLING CODE 9211-01-P